DEPARTMENT OF HEALTH AND HUMAN SERVICES

Centers for Disease Control and Prevention

[30-Day-19-19IJ]

Agency Forms Undergoing Paperwork Reduction Act Review

In accordance with the Paperwork Reduction Act of 1995, the Centers for Disease Control and Prevention (CDC) has submitted the information collection request titled “The Performance Measures Project: Improving Performance Measurement and Monitoring by CDC Programs” to the Office of Management and Budget (OMB) for review and approval. CDC previously published a “Proposed Data Collection Submitted for Public Comment and Recommendations” notice on February 7, 2019 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

The Performance Measures Project: Improving Performance Measurement and Monitoring by CDC Programs—New—Program Performance and Evaluation Office (PPEO), Centers for Disease Control and Prevention (CDC).

Background and Brief Description

Each year, approximately 75% of the CDC's congressionally appropriated funding goes to extramural organizations, including state and local partners, via contracts, grants, and, most commonly, cooperative agreements. A cooperative agreement is an award mechanism used when there will be substantial Federal programmatic involvement, meaning that the CDC program staff will collaborate or participate in project or program activities. These funds are distributed from the Office of Grant Services to partners throughout the world to promote health, prevent disease, injury and disability and prepare for new health threats. The availability of funding for cooperative agreements is announced through a Notice of Funding Opportunity (NOFO). CDC awards approximately 65 new domestic, non-research NOFOs each year (each funded for one to five years). Cooperative agreements may have only a few funded recipients or more than 50 (such as when a CDC program provides funding to all states and territories).

To monitor the performance of recipients and CDC programs toward achieving outcomes specified by cooperative agreements, CDC currently uses the PPMR (OMB Control Number- 0920-1132, Expiration Date: 08/31/2019), a progress report form adapted from an information collection owned by the Administration for Children and Families (ACF). This tool may be used to collect information periodically from recipients of CDC funds regarding the progress made on CDC funded projects.

The Performance Measures Project will work with up to 25 CDC programs developing cooperative agreements to address the challenges they face with performance planning, measurement and monitoring. Each cooperative agreement will provide funding to an average of 35 local entities, for a total of up to 875 locally funded entities.

Through participation in this Project, CDC programs and recipients of cooperative agreement funds will: (1) Develop strong performance measurement systems and practices; (2) define and operationalize priority performance measures tailored to a specific cooperative agreement; and (3) establish common data collection and reporting expectations across all recipients for a specific cooperative agreement. The Project focuses on addressing these issues during the early stages of cooperative agreement development and implementation.

The Project proposes a generic clearance adapted from a previously approved generic clearance (OMB Control Number: 0970-0490, Expiration Date 1/31/2020) owned by ACF. This ACF generic clearance replaces the information collection that is the basis of CDC's current PPMR. Project participants will customize sample information collections to meet program-specific needs. The information collected will enable the accurate, reliable, uniform and timely submission to CDC of each recipient's progress and performance measures.

The information collected by the generic information collection is designed to align with, and support the goals outlined for each of the CDC recipients. Collection and reporting of the information will occur in an efficient, standardized, and user-friendly manner that will generate a variety of routine and customizable reports. The generic information collection will allow each recipient to summarize activities and progress towards meeting performance measures and goals over a specified time period specific to each award. CDC will also have the capacity to generate reports that describe activities across multiple recipients. In addition, CDC will use the information collected to respond to inquiries from HHS, Congress and other stakeholder inquiries about program activities and their impact. CDC requests OMB approval for three years. The total estimated burden is 35,000 hours. There is no cost to respondents other than their time.

Estimated Annualized Burden Hours
Type of respondents | Form name | Number of respondents | Number of responses per respondent | Average burden per response (in hours)
CDC Award Recipients | (A) Performance Measures Project Sample Performance Measure Technical Specification Instrument (B) Performance Measures project Sample Performance Measure Reporting Instrument | 875 | 1 | 40

Jeffrey M. Zirger,
Lead, Information Collection Review Office, Office of Scientific Integrity, Office of Science, Centers for Disease Control and Prevention.

[FR Doc. 2019-17285 Filed 8-12-19; 8:45 am]

BILLING CODE 4163-18-P